DEPARTMENT OF TRANSPORTATION

Bureau of Transportation Statistics

Agency Information Collection; Activity Under OMB Review; Passenger Origin Destination Survey Report

ACTION: Notice.

SUMMARY: In compliance with the Paperwork Reduction Act of 1995, Public Law 104-13, the Bureau of Transportation Statistics (BTS) invites the general public, industry and other Federal Agencies to comment on the continuing need for and usefulness of BTS collecting a sample of airline passenger itineraries with dollar value of the passenger ticket from large scheduled airlines. Comments are requested concerning whether (a) the collections is still needed by DOT; (b) BTS accurately estimated the reporting burden; (c) there are other ways to enhance the quality, utility and clarity of the information collected; and (d) there are ways to minimize reporting burden, including the use of automated collection techniques or other forms of information technology.

DATES: Written comments should be submitted by June 12, 2000.

ADDRESSES: Comments should be directed to: Office of Airline Information, K-25, Room 4125, Bureau of Transportation Statistics, Department of Transportation, 400 Seventh Street, SW., Washington, DC 20590-0001.

COMMENTS: Comments should identify the OMB #2139-0001 and submit a duplicate copy to the address listed above. Commenters wishing the Department to acknowledge receipt of their comments must submit with those comments a self-addressed stamped postcard on which the following statement is made: Comments on OMB # 2139-0001. The postcard will be date/time stamped and returned to the commenter.

FOR FURTHER INFORMATION CONTACT: Bernie Stankus, Office of Airline Information, K-25, Bureau of Transportation Statistics, 400 Seventh Street, SW., Washington, DC 20590-0001, (202) 366-4387.

SUPPLEMENTARY INFORMATION:

OMB Approval No. 2139-0001

Title: Passenger Origin Destination Survey Report.

Type of Review: Extension of a currently approved collection.

Respondents: Large certificated air carriers.

Number of Respondents: 37.

Estimated Time Per Response: 240 hours.

Total Annual Burden: 35,520 hours.

Needs and Uses: Survey data are used in monitoring the airline industry, negotiating international agreements, selecting new international routes and selecting U.S. air carriers to operate international routes.

Issued in Washington, DC, on April 17, 2000.
Donald W. Bright,
Acting Director, Office of Airline Information, Bureau of Transportation Statistics.

[FR Doc. 00-9213 Filed 4-12-00; 8:45 am]

BILLING CODE 4910-62-U